DEPARTMENT OF AGRICULTURE

Rural Business Cooperative Service

[DOCKET #: RBS-23-BUSINESS-0029]

Amended Notice of Funding Opportunity for Rural Energy for America Program Technical Assistance Grant Program for Fiscal Year 2024; Extension of Submission Deadline

AGENCY: Rural Business Cooperative Service, USDA.

ACTION: Notice, extension of submission deadline.

SUMMARY: The Rural Business Cooperative Service (RBCS or the Agency), a Rural Development (RD) agency of the United States Department of Agriculture (USDA), announced its acceptance of applications under the Rural Energy for America (REAP) Technical Assistance Grant (TAG) Program for fiscal year (FY) 2024 in the Federal Register on February 20, 2024. This notice is extending the date by which applications can be submitted.

DATES: The deadline for submissions regarding the NOFO published February 20. 2024, at 89 FR 12815, is extended from March 15, 2024, to March 21, 2024.

ADDRESSES: Completed applications for grants must be submitted electronically via https://www.Grants.gov or to the USDA RD State Office (RDSO) State Energy Coordinator of the State where the project is located via email no later than 11:59 p.m. Eastern Time (ET) on March 21, 2024. The RDSO State Energy Coordinator for the applicable State can be found at: https://www.rd.usda.gov/contact-us/state-energy-coordinators.

FOR FURTHER INFORMATION CONTACT: Jonathan Burns at jonathan.burns@usda.gov, Business Loan and Grant Analyst, Direct Programs Branch, RBCS, USDA, (774) 678-7238.

SUPPLEMENTARY INFORMATION:

Background

The Agency is extending the deadline for submissions regarding the Notice of Funding Opportunity (NOFO) for the Rural Energy for America Program Technical Assistance Grant Program for Fiscal Year 2024 published February 20, 2024, at 89 FR 12815, from March 15, 2024, to March 21, 2024. This change is being made to allow Applicants a full 30 days from publication to prepare their complete applications.

Kathryn E. Dirksen Londrigan,
Administrator, Rural Business Cooperative Service, USDA Rural Development.

[FR Doc. 2024-04452 Filed 3-1-24; 8:45 am]

BILLING CODE 3410-XY-P